DEPARTMENT OF ENERGY

Federal Energy Regulatory Commission

[Docket No. RP01-359-002]

Northern Natural Gas Company; Notice of Proposed Changes in FERC Gas Tariff

July 19, 2001.

Take notice that on July 10, 2001, Northern Natural Gas Company (Northern), tendered for filing as part of its FERC Gas Tariff, Third Revised Volume No. 1, the following tariff sheets proposed to be effective August 1, 2001.

Fifteenth Revised Sheet No. 54

2nd Revised Sheet No. 54A

Thirteenth Revised Sheet No. 61

Thirteenth Revised Sheet No. 62

Thirteenth Revised Sheet No. 63

Thirteenth Revised Sheet No. 64

Second Revised Sheet No. 300A

Fifth Revised Sheet No. 301

Third Revised Sheet No. 301A

Northern states that the revised tariff sheets are being filed in acccodance with the Technical Conference held June 26, 2001, which addressed issues in Northern's annual PRA filing.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18500 Filed 7-24-01; 8:45 am]

BILLING CODE 6717-01-M